INTERNATIONAL TRADE COMMISSION

[Investigation No. 332-548]

U.S. Environmental Goods Trade

AGENCY: United States International Trade Commission.

ACTION: Institution of investigation, and opportunity to provide written submissions.

SUMMARY: Following receipt of a request dated April 2, 2014 (received April 4, 2014) from the United States Trade Representative (USTR) under section 332(g) of the Tariff Act of 1930 (19 U.S.C. 1332(g)), the U.S. International Trade Commission (Commission) instituted investigation No. 332-548, U.S. Environmental Goods Trade.

DATES: July 1, 2014: Deadline for filing written submissions.

October 6, 2014: Transmittal to USTR of Commission report.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Andrew David (202-205-3368 or andrew.david@usitc.gov), or Deputy Project Leader Mahnaz Khan (202-205-2046 or mahnaz.khan@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will provide trade information and estimates for certain environmental goods (the items identified by the USTR applicable to this investigation in the list attached to his letter), including, to the extent practicable, information on the U.S. HTS nomenclature for these items; specific product examples for “ex-outs” that specify an end use; major U.S. producers; the estimated value of U.S. imports and exports; likely key U.S. export markets; and permanent normal trade relations/most-favored nation applied and bound tariff rates in key environmental goods markets. As requested, trade information will be based on 2013 data.

The Commission will provide this report to the USTR by October 6, 2014. A copy of the list of environmental goods attached to the USTR's letter can be found at http://www.usitc.gov/research_and_analysis/What_We_Are_Working_On.htm. Only the items on the list identified by the USTR as pertaining to “Inv. 2” will be addressed in this report.

The USTR stated that portions of the Commission's report will be classified as national security information and that the USTR considers the report to be an inter-agency memorandum that will contain pre-decisional advice and be subject to the deliberative process privilege.

This is the second of two reports on environmental goods that the USTR requested in his letter of April 2, 2014. The USTR also requested, pursuant to section 131 of the Trade Act of 1974 (19 U.S.C. § 2151), that the Commission provide a report containing its advice as to the probable economic effect of providing duty-free treatment for imports of environmental goods from U.S. trade partners on (i) industries in the United States producing like or directly competitive products, and (ii) consumers. Notice of that investigation no. TA-131-039, Environmental Goods Trade Agreement: Advice on the Probable Economic Effect of Providing Duty-Free Treatment for Imports, is being published separately in the Federal Register. The USTR asked the Commission to provide this first report by August 4, 2014. The Commission will also offer the opportunity for interested parties to provide information and views in connection with this first report at a public hearing on May 14, 2014.

Written Submissions: Interested parties are invited to file written submissions concerning this investigation. All written submissions should be addressed to the Secretary, and should be received not later than 5:15 p.m., May 19, 2014. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of this investigation in the classified report it sends to the USTR. The Commission will not otherwise publish any confidential business information in a manner that would reveal the operations of the firm supplying the information.

By order of the Commission.
Issued: April 17, 2014.
William R. Bishop,
Supervisory Hearing and Information Officer.

[FR Doc. 2014-09128 Filed 4-21-14; 8:45 am]

BILLING CODE 7020-02-P